DEPARTMENT OF HOUSING AND URBAN DEVELOPMENT

[Docket No. FR-4817-N-16]

Notice of Proposed Information Collection for Public Comment—Resident Opportunities and Self-Sufficiency (ROSS) Grant Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 28, 2003.

ADDRESSES: Interested persons are invited to submit comments regarding this proposal. Comments should refer to the proposal by name and/or OMB Control number and should be sent to: Mildred M. Hamman, Reports Liaison Officer, Public and Indian Housing, Department of Housing and Urban Development, 451 7th Street SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The ROSS forms are used by the Department to collect information from Public Housing Agencies (PHAs), resident associations and nonprofit organizations as part of the ROSS grant the application process.

There are several forms used by the Department, each of which serve a different information collection purpose. The title, purpose, and estimated time it will take applicants to complete each form is described in the section below.

This Notice also lists the following information:

Title of Proposal: Information Collection for the ROSS Grant Program.

OMB Control Number: 2577-0229.

Description of the need for the information and proposed use: In order for the Department to ensure that applicants meet particular eligibility criteria and possess the capacity to operate federally-funded activities, the Department relies on information provided by applicants through several forms.

The forms are used by the Department in the rating and ranking process. This process is conducted to evaluate applications from PHAs, resident associations and nonprofit organizations. The forms capture additional information from applicants that cannot be easily conveyed by other segments of the ROSS application. For example, questions that require narrative responses would not easily convey budget information.

Agency form numbers, if applicable:

• Form HUD-52751, “Fact Sheet”. This form asks applicants to specify organization type, ROSS grant category to which they are applying, total number of housing units they will be serving, and in the case of resident organizations, information about their board and elections of the board. Estimated reporting time: 2 hours.

• Form HUD-52752, “Certification of Consistency with the Indian Housing Plan”. This form asks Native American tribes to certify that the activities they propose are consistent with their tribe's HUD-approved housing plan. Estimated reporting time: 15 minutes.

• Form HUD-52753, “Certification of Election of Resident Board”. This form asks applicants that are resident associations to certify that their board was duly elected. Estimated reporting time: one hour.

• Form HUD-52754, “List of Resident Associations Participating”. This form asks applicants that are nonprofit organizations to list the resident associations they will be working with. Estimated reporting time: fifteen minutes.

• Form HUD-52755, “Sample Contract Administrator Partnership Agreement”. This form provides a sample agreement for those applicants that are required to have Contract Administrators in place. Estimated reporting time: three hours.

• Form HUD-52756, “Chart A: Program Staffing”. This form asks applicants to list key program staff, including contractor staff, role in the grant, percent of time they will spend working on grant-funded activities and cost to the grant. Estimated reporting time: two hours.

• Form HUD-52757, “Chart B: Applicant/Administrator Track Record”. This form asks applicants that are nonprofit organizations to list the resident associations they will be working with. Estimated reporting time: fifteen minutes.

• Form HUD-52758, “Suggested Performance Measures for the Resident Opportunity and Self Sufficiency Program”. This form provides suggested performance measures for applicants to use in their proposals. Estimated reporting time: not applicable.

• Form HUD-52759, “Applicant Checklist and Submission Format for ROSS-Resident Services Delivery Models-Family”. This form provides a checklist to assist applicants—ensure that they have submitted all required forms and documentation. Estimated reporting time: Fifteen minutes.

• Form HUD-52760, “Applicant Checklist and Submission Format for ROSS-Resident Services Delivery Models—Elderly/Persons with Disabilities”. This form provides a checklist to assist applicants ensure that they have submitted all required forms and documentation. Estimated reporting time: Fifteen minutes.

• Form HUD-52761, “Applicant Checklist and Submission Format for ROSS-Homeownership Supportive Services”. This form provides a checklist to assist applicants ensure that they have submitted all required forms and documentation. Estimated reporting time: Fifteen minutes.

• Form HUD-52762, “Applicant Checklist and Submission Format for ROSS-Neighborhood Networks”. This form provides a checklist to assist applicants ensure that they have submitted all required forms and documentation. Estimated time to complete: Fifteen minutes.

• Form HUD-52763, “SAMPLE ROSS-RSDM Family Work Plan”. This form provides applicants with a sample format to use to submit their proposed work plan. The sample work plan is broken down to include goals, activities, tasks, target dates, performance measures and deliverables. Estimated time to complete: Four hours.

• Form HUD-52764, “SAMPLE ROSS-RSDM Elderly/Persons with Disabilities Work Plan”. This form provides applicants with a sample format to use to submit their proposed work plan. The sample work plan is broken down to include goals, activities, tasks, target dates, performance measures and deliverables. Estimated time to complete: four hours.

• Form HUD-52765, “SAMPLE ROSS—Homeownership Supportive Services Work Plan”. This form provides applicants with a sample format to use to submit their proposed work plan. The sample work plan is broken down to include goals, activities, tasks, target dates, performance measures and deliverables. Estimated time to complete: four hours.

• Form HUD-52766, “SAMPLE ROSS—Neighborhood Networks Business Plan”. This form provides applicants with a sample format to use to submit their proposed business plan. The sample business plan asks applicants to think about their goals, target populations, resources and how to become sustainable once grant funding expires. Estimated time to complete: six hours.

• Form HUD-52767,'Family Self-Sufficiency Funding Request Form”. This is a new form which asks renewal applicants to the FSS program to provide information about their past program including information about their participants, program successes, and their reporting to HUD. The form asks applicants who are applying to the FSS program for the first time, how many positions they are applying for and information about potential participants. Estimated time to complete: two hours.

Members of affected public: Local, State, or Tribal Governments, Resident Associations, Not-for-profit Institutions.

Estimation of the total number of hours needed to prepare the information collection including number of respondents, frequency of response, and hours of response:

For ROSS-RSDM Family: 850 respondents, one response per year; 12.5 hours per response; 10,625 total burden hours.

For ROSS-RSDM Elderly: 850 respondents, one response per year; 12.5 hours per response; 10,625 total burden hours.

For ROSS—Homeownership Supportive Services: 850 respondents, one response per year; 12.5 hours per response; 10,625 total burden hours.

For ROSS—Neighborhood Networks: 850 respondents, one response per year; 14.5 hours per response; 12,325 total burden hours.

For ROSS—Family Self-Sufficiency: 850 respondents, one response per year; 2 hours per response; 1,700 total burden hours.

Status of the proposed information collection: Revision of a currently approved collection.

Authority: Section 3506 of the Paperwork Reduction Act of 1995, 44 U.S.C. Chapter 35, as amended.

Dated: September 22, 2003.
Michael Liu,
Assistant Secretary for Public and Indian Housing.

[FR Doc. 03-24451 Filed 9-26-03; 8:45 am]

BILLING CODE 4210-33-P